DEPARTMENT OF STATE

[Public Notice #3231]

Secretary of State's Arms Control and Nonproliferation Advisory Board; Notice of Closed Meetings

In accordance with section 10(a)(2) of the Federal Advisory Committee Act, 5 U.S.C. app 2 § 10(a)(2)(1996), the Secretary of State announces the following changes and additions to the Arms Control and Nonproliferation Advisory Board (ACNAB) meetings:

Date and Location

March 8-9, 2000—Department of State, Washington, DC

April 24-25, 2000—Livermore National Laboratory, Livermore, CA

May 8-9, 2000—Department of State, Washington, DC

Pursuant to section 10(d) of the Federal Advisory Committee Act, 5 U.S.C. app 2 § 10(d)(1996), and in accordance with Executive Order 12958, in the interest of national defense and foreign policy, it has been determined that these Board meetings will be closed to the public, since the ACNAB members will be reviewing and discussing classified matters.

The purpose of this Advisory Board is to advise the President and the Secretary of State on scientific, technical, and policy matters affecting arms control. The board will review specific arms control and nonproliferation issues. Members will be briefed on current U.S. policy and issues regarding negotiations such as the Convention on Conventional Weapons and the Chemical and Biological Weapons Convention.

For more information, please contact Robert Sherman, Executive Director, Arms Control and Nonproliferation Advisory Board, at (202) 647-1192.

Dated: February 25, 2000.
Robert Sherman,
Executive Director, Secretary of State's Arms Control and Nonproliferation Advisory Board.

[FR Doc. 00-5173 Filed 2-29-00; 2:11 pm]

BILLING CODE 4710-27-P